DEPARTMENT OF TRANSPORTATION

Pipeline and Hazardous Materials Safety Administration

Hazardous Materials: Notice of Applications for New Special Permits

AGENCY: Pipeline and Hazardous Materials Safety Administration (PHMSA), Transportation (DOT).

ACTION: List of applications for special permits.

SUMMARY: In accordance with the procedures governing the application for, and the processing of, special permits from the Department of Transportation's Hazardous Material Regulations, notice is hereby given that the Office of Hazardous Materials Safety has received the application described herein.

DATES: Comments must be received on or before May 12, 2022.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on April 4, 2022.
Donald P. Burger,
Chief, General Approvals and Permits Branch.

Special Permits Data
Application No. | Applicant | Regulation(s) affected | Nature of the special permits thereof
21349-N | Veolia Es Technical Solutions LLC | 173.301(f)(1) | To authorize the one-time, one-way transportation in commerce of DOT 39 cylinders that are not equipped with pressure relief devices for the purpose disposal. (mode 1)
21350-N | The National Reconnaissance Office | 173.185(a)(1) | To authorize the transportation in commerce of low production lithium batteries contained in equipment (spacecraft). (mode 4)
21351-N | Bolloré Logistics Germany GmbH | 172.101(j), 172.300, 172.400, 173.301(f)(1), 173.302a(a)(1), 173.185(a)(1) | To authorize the transportation in commerce of specially designed non-DOT specification in which prototype and low production lithium ion batteries contained in equipment (spacecraft) that have not completed all UN tests and exceed 35 kg net weight by cargo-only aircraft and articles containing non-flammable, toxic gas, n.o.s. (contains ammonia, anhydrous) within the equipment are being shipped for use in specialty applications. (mode 4)
21352-N | Veolia North America Regeneration Services, LLC | 173.244(a)(2), 173.31(e)(2)(ii), 179.22(e) | To authorize the transportation in commerce of certain PIH materials in 105J500W specification tank cars that were originally manufactured prior to March 16, 2009 and have been modified to meet the current specification requirements for DOT 105H500W tank cars. (mode 2)
21353-N | Lanxess Canada Co | 173.24(f)(1)(i), 173.32(e)(1) | To authorize the transportation in commerce of a defective portable tank, containing a residue of a Division 4.2 material, via motor vehicle. (mode 1)

[FR Doc. 2022-07898 Filed 4-12-22; 8:45 am]

BILLING CODE 4910-60-P